DEPARTMENT OF THE TREASURY

Agency Information Collection Activities; Submission for OMB Review; Comment Request; Multiple IRS Information Collection Requests

AGENCY: Departmental Offices, U.S. Department of the Treasury.

ACTION: Notice.

SUMMARY: The Department of the Treasury will submit the following information collection request(s) to the Office of Management and Budget (OMB) for review and clearance in accordance with the Paperwork Reduction Act of 1995, on or after the date of publication of this notice. The public is invited to submit comments on the collection(s) listed below.

DATES: Comments should be received on or before April 27, 2017 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained by emailing PRA@treasury.gov, calling (202) 622-0489, or viewing the entire information collection request at www.reginfo.gov.

SUPPLEMENTARY INFORMATION:

Internal Revenue Service (IRS)

Title: United States Estate (and Generation-Skipping Transfer) Tax Return.

OMB Control Number: 1545-0015.

Type of Review: Extension without change of a currently approved collection.

Abstract: Form 706 is used by executors to report and compute the Federal Estate Tax imposed by IRC section 2001 and the Federal Generation Skipping Tax imposed by IRC section 2601. IRS uses the information to enforce these taxes and to verify that the tax has been properly computed.

Form: 706, 706 continuation schedule, Schedule A, Sch. A-1, Sch B, Sch C, Sch D, Sch E, Sch F, Sch G, Sch H, Sch I, Sch J, Sch K, Sch L, Sch M, Sch O, Sch P, Sch Q, Sch R, Sch R-1, Sch U, Sch PC.

Affected Public: Individuals or Households.

Estimated Total Annual Burden Hours: 2,048,710.

Title: Form 926—Return by a U.S. Transferor of Property to a Foreign Corporation.

OMB Control Number: 1545-0026.

Type of Review: Extension without change of a currently approved collection.

Abstract: Form 926 is filed by any U.S. person who transfers certain tangible or intangible property to a foreign corporation to report information required by section 6038B.

Form: 926.

Affected Public: Businesses or other for-profits.

Estimated Total Annual Burden Hours: 30,195.

Title: Application For Certificate Discharging Property Subject To Estate Tax Lien.

OMB Control Number: 1545-0328.

Type of Review: Extension without change of a currently approved collection.

Abstract: Form 4422 is completed by either an executor, administrator, or other interested party for requesting release of any/all property of an estate from the Estate Tax Lien. It is used when property is being sold (for example a residence) and the title company needs a release of the estate tax lien to issue a title policy and close the sale of the property. The information is used to make a determination of the Government's lien interest in property.

Form: 4422.

Affected Public: Businesses or other for-profits.

Estimated Total Annual Burden Hours: 1,500.

Title: Revised Regulations Concerning Section 403(b) Tax-Sheltered Annuity Contracts—TD 9340 (Final).

OMB Control Number: 1545-2068.

Type of Review: Extension without change of a currently approved collection.

Abstract: The collection of information in the regulations is in final regulations under section 403(b) of the Internal Revenue Code and under related provisions of sections 402(b), 402(g), 402A, and 414(c). The regulations provide updated guidance on section 403(b) contracts of public schools and tax-exempt organizations described in section 501(c)(3). Such information exchange is necessary to ensure compliance with tax law requirements relating to loans and hardship distributions from section 403(b) plans and sponsors of section 403(b) contracts, administrators, participants, and beneficiaries.

Form: None.

Affected Public: Not-for-profit institutions.

Estimated Total Annual Burden Hours: 45,000.

Title: Temporary Shelter for Individuals Displaced by Severe Storms and Tornadoes in Oklahoma.

OMB Control Number: 1545-2244.

Type of Review: Extension without change of a currently approved collection.

Abstract: The Internal Revenue Service is suspending certain requirements under § 42 of the Internal Revenue Code for low-income housing credit projects to provide emergency housing relief needed as a result of the devastation caused by severe storms and tornadoes in the State of Oklahoma beginning May 18, 2013. This relief is being granted pursuant to the Service's authority under § 42(n) and § 1.42-13(a) of the Income Tax Regulations.

Form: None.

Affected Public: Businesses or other-for-profits.

Estimated Total Annual Burden Hours: 325.

Title: Form 8453-R—Declaration and Signature for Electronic Filing of Forms 8947 and 8963.

OMB Control Number: 1545-2253.

Type of Review: Extension without change of a currently approved collection.

Abstract: Use Form 8453-R to authenticate the electronic filing of Form 8947, Report of Branded Prescription Drug Information, and Form 8963, Report of Health Insurance Provider Information.

Form: 8453-R.

Affected Public: Businesses or other for-profits.

Estimated Total Annual Burden Hours: 4,131.

Authority: 44 U.S.C. 3501 et seq.

Dated: March 23, 2017.
Spencer W. Clark,
Treasury PRA Clearance Officer.

[FR Doc. 2017-06127 Filed 3-27-17; 8:45 am]

BILLING CODE 4830-01-P